DEPARTMENT OF DEFENSE

Department of the Army

[Docket ID: USA-2008-0020]

Privacy Act of 1974; System of Records

AGENCY: Department of the Army, DoD.

ACTION: Notice to amend a system of Records.

SUMMARY: The Department of the Army is proposing to amend a system of records in its existing inventory of records systems subject to the Privacy Act of 1974, (5 U.S.C. 552a), as amended.

DATES: The proposed action will be effective on August 13, 2008 unless comments are received that would result in a contrary determination.

ADDRESSES: Department of the Army, Freedom of Information/Privacy Office, U.S. Army Records Management and Declassification Agency, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 8, 2008.
Patricia L. Toppings,
OSD Federal Register Liaison Officer, Department of Defense.

A0027-50 DAJA

System name:

Foreign Jurisdiction Case Files (February 22, 1993, 58 FR 10002).

Changes:

System location:

Delete entry and replace with “Office of the Judge Advocate General, Headquarters, Department of the Army, International and Operational Law Division, Washington, DC 20310-2210. (Copy of record will exist for shorter periods in Office of the Staff Judge Advocate at the command where case originated.)”

Categories of individuals covered by the system:

Delete entry and replace with “Members of the U.S. Army; civilians employed by, serving with, or accompanying the U.S. Army abroad; and dependents of such individuals who have been subject to the exercise of civil or criminal jurisdiction by foreign courts or foreign administrative agencies and/or sentenced to unsuspended confinement.”

* * * * *

Authority for maintenance of the system:

Delete entry and replace with “10 U.S.C. 3013; Department of Defense Directive 5525.1; Army Regulation 27-50, Status of Forces Policies, Procedures, and Information; and E.O. 9397 (SSN).”

* * * * *

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Delete second paragraph “Information from this system of records may be disclosed to law students participating in a volunteer legal support program approved by the Judge Advocate General of the Army.”

* * * * *

Storage:

Delete entry and replace with “Paper records and electronic storage media.”

* * * * *

Safeguards:

Delete entry and replace with “Records are maintained in a secure controlled area and are accessible only to authorized personnel. Physical and electronic access is restricted to designated individuals having a need therefore in the performance of official duties. Buildings are equipped with alarms, cameras, and monitored continuously.”

Retention and disposal:

Delete entry and replace with “Permanent. Keep in CFA until no longer needed for conducting business, then retire to Records Holding Area/Army Electronic Archives (RHA/AEA). The RHA/AEA will transfer to the National Archives when record is 20 years old.”

* * * * *

A0027-50 DAJA

System name:

Foreign Jurisdiction Case Files.

System location:

Office of the Judge Advocate General, Headquarters, Department of the Army, International and Operational Law Division, Washington, DC 20310-2210. (Copy of record will exist for shorter periods in Office of the Staff Judge Advocate at the command where case originated.)

Categories of individuals covered by the system:

Members of the U.S. Army; civilians employed by, serving with, or accompanying the U.S. Army abroad; and dependents of such individuals who have been subject to the exercise of civil or criminal jurisdiction by foreign courts or foreign administrative agencies and/or sentenced to unsuspended confinement.

Categories of records in the system:

Individual case reports concerning the exercise of jurisdiction by foreign tribunals, trial observer reports, requests for provision of counsel, records of trials, requests for local authorities to refrain from exercising their jurisdiction; communications with other lawyers, officials within the Department of the Army and/or Defense, diplomatic missions; other selected relevant documents.

Authority for maintenance of the system:

10 U.S.C. 3013; Department of Defense Directive 5525.1; Army Regulation 27-50, Status of Forces Policies, Procedures, and Information; and E.O. 9397 (SSN).

Purpose(s):

To monitor development and status of each individual case to ensure that all rights and protection to which U.S. personnel abroad and their dependents are entitled under pertinent international agreements are accorded such personnel; to obtain information to answer queries regarding the status and disposition of individual cases involving the exercise of civil or criminal jurisdiction by foreign courts or foreign administrative agencies to render management and statistical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records and electronic storage media.

Retrievability:

By individual's surname.

Safeguards:

Records are maintained in a secure controlled area and are accessible only to authorized personnel. Physical and electronic access is restricted to designated individuals having a need therefore in the performance of official duties. Buildings are equipped with alarms, cameras, and monitored continuously.

Retention and disposal:

Permanent. Keep in CFA until no longer needed for conducting business, then retire to Records Holding Area/Army Electronic Archives (RHA/AEA). The RHA/AEA will transfer to the National Archives when record is 20 years old.

System manager(s) and address:

The Judge Advocate General, Headquarters, Department of the Army, Washington, DC 20310-2210.

Notification procedure:

Individuals seeking to determine whether information about themselves is contained in this system should address written inquiries to either the Judge Advocate General, Headquarters, Department of the Army, Washington, DC 20310-2210 or the Staff Judge Advocate of the installation or Command where legal assistance was sought. Official mailing addresses can be obtained by writing the system manager.

Individual should provide full name, current address and telephone number or case number and office symbol appearing on official correspondence concerning the matter, any other identifying information and signature.

Record access procedures:

Individuals seeking access to information about themselves contained in this system should address written inquiries to either the Judge Advocate General, Headquarters, Department of the Army, Washington, DC 20310-2210 or the Staff Judge Advocate of the installation or Command where legal assistance was sought. Official mailing addresses can be obtained by writing the system manager.

Individual should provide full name, current address and telephone number, case number or office symbol appearing on official correspondence concerning the matter, any other identifying information and signature.

Contesting record procedures:

The Army's rules for accessing records, and for contesting contents and appealing initial agency determinations are contained in Army Regulation 340-21; 32 CFR part 505; or may be obtained from the system manager.

Record source categories:

From the individual, his/her attorney, foreign government agencies, Department of State, law enforcement jurisdictions, relevant Army records and reports.

Exemptions claimed for the system:

None.

[FR Doc. E8-15929 Filed 7-11-08; 8:45 am]

BILLING CODE 5001-06-P